DEPARTMENT OF STATE

[Public Notice 5514]

Advisory Committee on Transformational Diplomacy; Notice of Postponement of Meeting

The Department of State announces the postponement of the meeting of the Secretary of State's Advisory Committee on Transformational Diplomacy because of scheduling conflicts. The meeting, as announced in Public Notice 5512, was to have taken place on September 6 and 7, 2006, at the U.S. Department of State at 2201 C Street, NW., Washington, DC. A new meeting date will be announced by Federal Register notice.

For more information, contact Madelyn Marchessault, Designated Federal Official of the Advisory Committee on Transformational Diplomacy at 202-647-0093 or at Marchessaultms@state.gov.

Dated: August 30, 2006.
Marguerite Coffey,
Acting Director, Office of Management Policy, Department of State.

[FR Doc. E6-14722 Filed 9-5-06; 8:45 am]

BILLING CODE 4710-35-P